DEPARTMENT OF THE INTERIOR

Office of Surface Mining Reclamation and Enforcement

30 CFR Part 920

[MD-047-FOR]

Maryland Regulatory Program

AGENCY: Office of Surface Mining Reclamation and Enforcement, Interior.

ACTION: Final rule; correction.

SUMMARY: This document contains corrections to the final rule [MD-047-FOR], which was published Wednesday, November 8, 2000 (65 FR 66929). The final rule describes Maryland's procedures for financing abandoned mine land reclamation projects that involve the incidental extraction of coal.

DATES: Effective December 15, 2000.

FOR FURTHER INFORMATION CONTACT: George Rieger, Program Manager, OSM, Appalachian Regional Coordinating Center, 3 Parkway Center, Pittsburgh, PA 15220. Telephone: (412) 937-2153. E-mail: grieger@osmre.gov

SUPPLEMENTARY INFORMATION: The final rule amended § 920.15 to add a new entry to the table describing the date the original amendment was submitted, the date of final publication, and the citation/description. As originally published in 65 FR 66929, the instructions were correct but the section heading erroneously read “§ 920.25 Approval of Maryland regulatory amendments.” It should have read “§ 920.15 Approval of Maryland regulatory amendments.”

Correction of Publication

Accordingly, the publication on November 8, 2000 of the final regulations (MD-047-FOR), which were the subject of FR Doc. 00-28618, is corrected to read as follows:

1. On page 66931, in the third column, the section heading is corrected to read as follows:

§ 920.15 Approval of Maryland regulatory program amendments.

* * * * *

Dated: November 20, 2000.
Allen D. Klein,
Regional Director, Appalachian Regional Coordinating Center.

[FR Doc. 00-32039 Filed 12-14-00; 8:45 am]

BILLING CODE 4310-05-P